ENVIRONMENTAL PROTECTION AGENCY

[FRL-9431-5]

Agency Information Collection Activities; OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 0276.14; Experimental Use Permits (EUPs) for Pesticides; 40 CFR 172; was approved on 06/01/2011; OMB Number 2070-0040; expires on 06/30/2014; Approved without change.

EPA ICR Number 0143.11; Recordkeeping Requirements for Producers, Registrants, and Applicants of Pesticides and Pesticide Devices under Section 8 of the Federal Insecticide, Fungicide, and Rodenticide Act (FIFRA) (Renewal); 40 CFR part 169; was approved on 06/01/2011; OMB Number 2070-0028; expires on 06/30/2014; Approved without change.

EPA ICR Number 1198.09; Chemical-Specific Rules, TSCA section 8(a); 40 CFR part 704; was approved on 06/01/2011; OMB Number 2070-0067; expires on 06/30/2014; Approved without change.

EPA ICR Number 1741.06; Correction of Misreported Chemical Substances on the Toxic Substances Control Act (TSCA) Chemical Substances Inventory; was approved on 06/01/2011; OMB Number 2070-0145; expires on 06/30/2014; Approved without change.

EPA ICR Number 1250.09; Request for Contractor Access to TSCA Confidential Business Information (CBI); 15 CFR part 2613; was approved on 06/01/2011; OMB Number 2070-0075; expires on 06/30/2014; Approved without change.

EPA ICR Number 1693.07; Plant-Incorporated Protectants; CBI Substantiation and Adverse Effects Reporting; 40 CFR 174.9 and 174.71; was approved on 06/07/2011; OMB Number 2070-0142; expires on 06/30/2014; Approved without change.

EPA ICR Number 2385.02; Emission Guidelines for Commercial and Industrial Solid Waste Incineration (CISWI) units; 40 CFR part 60, subparts A and DDDD; was approved on 06/07/2011; OMB Number 2060-0664; expires on 06/30/2014; Approved without change.

EPA ICR Number 1904.07; The Sun Wise School Program; was approved on 06/23/2011; OMB Number 2060-0439; expires on 06/30/2014; Approved with change.

EPA ICR Number 1781.06; NESHAP for Pharmaceutical Production; 40 CFR part 63, subparts A and GGG; was approved on 06/30/2011; OMB Number 2060-0358; expires on 06/30/2014; Approved without change.

Short Term Extension of Expiration Date

EPA ICR Number 1655.08; Regulation of Fuels and Fuel Additives: Detergent Gasoline; a short term extension of the expiration date was granted by OMB on 06/30/2011; OMB Number 2060-0275; expires on 07/31/2011.

Comment Filed

EPA ICR Number 2046.06; NESHAP for Mercury Cell Chlor-Alkali Plants; in 40 CFR part 63, subparts A and IIIII; OMB filed comment on 06/02/2011.

Dated: July 1, 2011.
Joseph A. Sierra,
Acting Director, Collections Strategies Division.

[FR Doc. 2011-17023 Filed 7-6-11; 8:45 am]

BILLING CODE 6560-50-P